DEPARTMENT OF TRANSPORTATION

Pipeline and Hazardous Materials Safety Administration

[Docket: RSPA-98-4957]

Request for Public Comments and Office of Management and Budget (OMB) Approval of an Existing Information Collection (2137-0594)

AGENCY: Office of Pipeline Safety, Pipeline and Hazardous Materials Safety Administration, Department of Transportation (DOT).

SUMMARY: This notice seeks comments from the public regarding notices that gas pipeline operators must send customers about buried customer piping located downstream from service lines and the related records operators must keep. The notices inform customers about the need for proper maintenance of this piping. Comments will help OMB evaluate the information collection burden.

DATES: Comments must be received by July 22, 2005, to ensure consideration.

ADDRESSES: You may submit written comments to the docket by any of the following methods: DOT Web site: Go to http://dms.dot.gov, click on “Comments/Submissions” and follow instructions at the site. Mail: Dockets Facility, U.S. Department of Transportation, Room PL-401, 400 Seventh Street, SW., Washington, DC 20590-0001. Anyone wanting confirmation of mailed comments must include a self-addressed stamped postcard. Hand Delivery or Courier: Room PL-401, 400 Seventh Street, SW., Washington, DC. The Dockets Facility is open from 9 a.m. to 5 p.m., Monday through Friday, except Federal holidays.

Instructions: All written comments should identify the docket number stated in the heading of this notice.

Docket access: For copies of this notice or other material in the docket, you may contact the Dockets Facility by phone (202-366-9329) or visit the facility at the above street address. For Web access to the docket to read and download filed material, go to http://dms.dot.gov/search. Then type in the last four digits of the docket number shown in the heading of this notice, and click on “Search.”

Anyone can search the electronic form of all comments filed in any of DOT's dockets by the name of the individual submitting the comment (or signing the comment, if submitted for an association, business, labor union, etc.). You may review DOT's complete Privacy Act Statement in the April 11, 2000 issue of the Federal Register (65 FR 19477) or go to http://dms.dot.gov.

FOR FURTHER INFORMATION CONTACT: Florence Hamn at (202) 366-3015 or by e-mail to Florence.Hamn@dot.gov.

SUPPLEMENTARY INFORMATION: Standards in 49 CFR 192.16, “Customer notification,” require operators of gas service lines who do not maintain buried customer piping between service lines and building walls or gas utilization equipment to send written notices to their customers of the proper maintenance of this piping and of the potential hazards of not properly maintaining the piping. Operators also have to keep records that include a copy of the notice currently in use and evidence that notices were sent to customers within the previous 3 years. This rule was issued in response to the statutory mandate in 49 U.S.C. 60113.

This information collection supports the DOT strategic goal of safety by reducing the number of fatalities, injuries, and amount of property damage.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

As used in this notice, “information collection” includes all work related to preparing and disseminating information related to this recordkeeping requirement including completing paperwork, gathering information and conducting telephone calls.

Type of Information Collection Request: Renewal of Existing Collection.

Title of Information Collection: Customer-owned Service Lines.

OMB Approval Number: 2137-0594.

Frequency: A notice is sent once to each customer at a particular location.

Use: This collection is used by gas customers to learn of the need to maintain their buried piping and by OPS and State authorities to review operator compliance.

Estimated Number of Respondents: 1,540.

Estimated Annual Burden Hour: 9,167.

Issued in Washington, DC, on May 17, 2005.
Theodore L. Willke,
Deputy Associate Administrator for Pipeline Safety.

[FR Doc. 05-10198 Filed 5-20-05; 8:45 am]

BILLING CODE 4910-60-P